DEPARTMENT OF THE INTERIOR

Geological Survey

[GX.24.DJ73.V3410.00; OMB Control Number 1028-NEW]

Vulnerability to Water Insecurity, Hazards Planning and Response

AGENCY: U.S. Geological Survey, Department of Interior.

ACTION: Notice of information collection; request for comment.

SUMMARY: In accordance with the Paperwork Reduction Act of 1995 (PRA), the U.S. Geological Survey (USGS) is proposing a new information collection.

DATES: Interested persons are invited to submit comments on or before May 31, 2024.

ADDRESSES: Written comments and recommendations for the proposed information collection should be sent within 30 days of publication of this notice to www.reginfo.gov/public/do/PRAMain. Find this particular information collection by selecting “Currently under 30-day Review—Open for Public Comments” or by using the search function. Send your comments on this information collection request (ICR) by mail to U.S. Geological Survey, Information Collections Officer, 12201 Sunrise Valley Drive, MS 159, Reston, VA 20192; or by email to gs-info_collections@usgs.gov. Please reference OMB Control Number 1028-NEW—Water Insecurity in the subject line of your comments.

FOR FURTHER INFORMATION CONTACT: To request additional information about this Information Collection Request (ICR), contact Jennifer Rapp by email at jrapp@usgs.gov, or by telephone at 804-261-2635. You may also view the ICR at http://www.reginfo.gov/public/do/PRAMain. Individuals who are hearing or speech impaired may call the Federal Relay Service at 1-800-877-8339 for TTY assistance.

SUPPLEMENTARY INFORMATION: In accordance with the PRA (44 U.S.C. 3501 et seq.) and 5 CFR 1320.8(d)(1), we provide the general public and other federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 2, 2022 (87 FR 54240). No comments were received.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personal identifiable information (PII) in your comment, you should be aware that your entire comment—including your PII—may be made publicly available at any time. While you can ask us in your comment to withhold your PII from public review, we cannot guarantee that we will be able to do so.

Abstract: The United States is facing growing challenges related to the availability and quality of water due to shifting demographics, aging water delivery infrastructure, the impacts of climate change, and increasing hazards risk, like floods and drought. Working with incomplete knowledge, managers must consider the needs of various demographic groups and economic sectors when making management decisions as well as when responding to emergencies. To improve delivery of effective science to support decision-making, the USGS must adapt to meet the evolving needs of stakeholders in the water hazard space. We will collect information regarding the decision-making process, data, and data format needs to support daily, long-term, and emergency management decision-making. Information will also be sought on gaps in data delivery and coverage. A lack of decision-support data within water institutions can lead to poor decision-making and outcomes that produce conflict between water use sectors, states, or communities and ultimately may led to crisis. This information will support the delivery of appropriate data, in appropriate formats, at the right time for decision-making and emergency management. The information will guide USGS support of water resource institutions, enhancing resilience in the face of the many water-resources challenges the Nation currently faces.

Title of Collection: Vulnerability to Water Insecurity, Hazards Planning and Response.

OMB Control Number: 1028-NEW.

Form Number: None.

Type of Review: New.

Respondents/Affected Public: state, Tribal nation, and local water resource managers and water resource stakeholders; water hazard responders; and members of the public that engage in use of water data as part of their job (i.e., academics or non-governmental organizations).

Total Estimated Number of Annual Respondents: 750.

Total Estimated Number of Annual Responses: 750.

Estimated Completion Time per Response: 60 minutes.

Total Estimated Number of Annual Burden Hours: 750.

Respondent's Obligation: Voluntary.

Frequency of Collection: Once per year.

Total Estimated Annual Nonhour Burden Cost: None.

An agency may not conduct or sponsor, nor is a person is required to respond to a collection of information unless it displays a currently valid OMB control number.

The authority for this action is the Paperwork Reduction Act of 1995 (44 U.S.C. 3501 et seq.).

Joseph Nielsen,
Director, Integrated Information Dissemination Division, Water Resources Mission Area.

[FR Doc. 2024-09423 Filed 4-30-24; 8:45 am]

BILLING CODE P